DEPARTMENT OF DEFENSE

Office of the Secretary

Extension of Web-Based TRICARE Assistance Program Demonstration Project

AGENCY: Department of Defense (DoD).

ACTION: Notice of a Web-Based TRICARE Assistance Program demonstration project extension.

SUMMARY: This notice is to advise interested parties of an extension to the Military Health System (MHS) demonstration project, under authority of Title 10, United States Code, Section 1092, entitled Web-Based TRICARE Assistance Program. This demonstration was effective August 1, 2009, as referenced in the original Federal Register (FR) Notice, 74 FR 3667, dated July 24, 2009. The demonstration project uses existing managed care support contracts (MCSC) to allow Web-based behavioral health and related services, including non-medical counseling and advice services to Active Duty Service members (ADSM), their families, and members and their dependents enrolled in TRICARE Reserve Select, and those eligible for the Transitional Assistance Management Program (TAMP) who reside in the continental United States. The extension is necessary to allow more time to measure the effectiveness of the demonstration in meeting its goal of improving beneficiary access to behavioral health care by incorporating Web-based technology.

DATES: This extension will be effective April 1, 2010. The demonstration project will continue until March 31, 2011.

ADDRESSES: TRICARE Management Activity (TMA), TRICARE Policy and Operations, 5111 Leesburg Pike, Suite 810, Falls Church, VA 22041.

FOR FURTHER INFORMATION CONTACT: For questions pertaining to this demonstration project contact Mr. Richard Hart at (703) 681-0047.

SUPPLEMENTARY INFORMATION:

Background

On page 405 of House Report 2638, the Department of Defense Appropriations Act for Fiscal Year (FY) 2009 Joint Explanatory Statement, Congress stated: “The Department of Defense Appropriations Act for Fiscal Year 2009 stated: “An area of particular interest is the provision of appropriate and accessible counseling to Service members and their families who live in locations that are not close to Military Treatment Facilities (MTFs), other MHS facilities, or TRICARE providers. Web-based delivery of counseling has significant potential to offer counseling to personnel who otherwise might not be able to access it. Therefore, the Department is directed to establish and use a Web-based Clinical Mental Health Services Program as a way to deliver critical clinical mental health services to Service members and families in rural areas.”

The TRICARE Assistance Program (TRIAP) demonstration as outlined in 74 FR 3667 of July 24, 2009, launched August 1, 2009, to provide the capability for short-term, problem solving counseling between eligible beneficiaries and licensed counselors utilizing video technology and software such as Skype or iChat. Regional contractors were tasked with formulating and initiating the programs. TRIAP services are available 24/7. Active Duty Service members, their spouses of any age, and other family members 18 years of age or older, who reside in the United States are eligible to participate. Enrollees in Reserve Select and TAMP also may use the program. TRIAP provides assistance to beneficiaries dealing with personal problems that might adversely impact their work performance, health, and well-being. It includes assessment, short-term counseling, and referrals to more comprehensive levels of care if needed. TRIAP is based on commercial employee assistance models and provides counseling in a virtual face-to-face environment. There is no diagnosis made, are no limits to usage, and no notification about those seeking counseling will be made to their primary care managers or others, unless required by the counselor's licensure (spouse abuse, etc.). Participant confidentiality is protected, as no medical record entry is made.

There were initial challenges in making beneficiaries aware of the program when implemented in August 2009. These challenges included:

• Short turnaround with behavioral health (BH) programs launching on the same day, both using video, but with distinct differences—one a demonstration (TRIAP), the other a permanent benefit (Telemental Health).

• Significant program changes days prior to launch: Age and confidentiality.

• The regional contractors implemented the program in admirably short time, but have varying accessibility and visibility.

• Primary means of communication with Prime beneficiaries (newsletter) has significant lead time (4 months).

• Dozens of “competing” programs already geared to assisting Service members in a similar forum (employee assistance/counseling format) with BH issues, notably Defense Center of Excellence (Psychological Health) and Military OneSource.

• Limited research on Service members' willingness to use video as a means of counseling or their belief in confidentiality.

Despite concerted media and outreach effort on the part of regional contractors and extensive media coverage, usage remains very low. In an effort to increase awareness and encourage beneficiary use of TRIAP and Tele-Behavioral Health Care Services, TRICARE has launched aggressive external communications initiatives, to include but not limited to:

• Article in Prime newsletter (December) delivered to beneficiaries via direct mail. Advance copy sent to 30,000 subscribers.

• In production: Leadership video broadening the message to motivate beneficiaries to get help. Includes messages by line spokespersons. Wide distribution to MTFs, installations, and service leadership.

• Senior leader talking points.

• Updated briefings slide library.

• Fact sheet on TRIAP.

• Behavioral health flyer updated for 2010: Orders for several hundred thousand in the queue now for distribution by approximately 2,000 points of contact, including the TRICARE Service Centers, Family Support Offices, Wounded Warrior case managers, and nearly 700 Reserve and Guard unit representatives.

• Behavioral Resources Guide updated for 2010: Orders for several hundred thousand in the queue now for distribution by approximately 2,000 points of contact including the TRICARE Service Centers, Family Support Offices, Wounded Warrior case managers, and nearly 700 Reserve and Guard unit representatives.

• Partnering with Chaplain Corps, all services—new effort.

• MHS conference (January 2010)—three breakouts on mental health.

• Additional partnering efforts with TMA regions/contractors—MHS conference.

In order to allow enough time for marketing efforts to take effect and provide enough time to gather adequate data on the feasibility of utilizing audio and visual technologies, including Web-based services, to our Active Duty Service members, their families and other beneficiaries on a permanent basis, an extension of the demonstration is necessary.

Implementation

This demonstration extension will be effective April 1, 2010.

Evaluation

As noted in the original FR Notice, 74 FR 3667, July 24, 2009, an independent evaluation of the demonstration will be conducted. It will be performed retrospectively and use a combination of administrative measures of behavioral health care access to provide analysis and comment on the effectiveness of the demonstration in meeting its goal of improving beneficiary access to behavioral health care by incorporating Web-based technology.

Dated: March 25, 2010.
Mitchell S. Bryman,
Alternate OSD Federal Register Liaison Officer, Department of Defense.

[FR Doc. 2010-7009 Filed 3-29-10; 8:45 am]

BILLING CODE 5001-06-P